DEPARTMENT OF HOMELAND SECURITY

Coast Guard

46 CFR Part 35

[Docket No. USCG-2015-0926]

RIN 1625-AC27

Tankers—Automatic Pilot Systems; Correction

AGENCY: Coast Guard, DHS.

ACTION: Final rule; correction.

SUMMARY: The Coast Guard is correcting a final rule that appeared in the Fedreal Register on November 5, 2018. The document issued a final rule that permited tankers with automatic pilot systems that meet certain international standards to operate using those systems in shipping safety fairways and traffic separation schemes specified in 33 CFR parts 166 and 167, respectively.

DATES: Effective December 5, 2018.

ADDRESSES: You may view comments and related material identified by docket number USCG-2015-0926 using the Federal eRulemaking Portal at http://www.regulations.gov.

FOR FURTHER INFORMATION CONTACT: For information about this document or to view material incorporated by reference call or email LCDR Matthew J. Walter, CG-NAV-2, U.S. Coast Guard; telephone 202-372-1565, email cgnav@uscg.mil.

SUPPLEMENTARY INFORMATION: In FR Doc. 2018-24127 appearing on page 55272 in the Federal Register of Monday November 5, 2018, the following corrections are made:

§ 35.20-45 [Corrected]

1. On page 55281, in the third column, in § 35.20-45, the heading of the section “§ 35.20-40 Use of Auto Pilot—T/ALL.” is corrected to read “§ 35.20-45 Use of Auto Pilot—T/ALL.”

Dated: November 6, 2018.
Rebecca Orban,
Acting Office Chief, Office of Regulations and Administrative Law, U.S. Coast Guard.

[FR Doc. 2018-24619 Filed 11-9-18; 8:45 am]

BILLING CODE 9110-04-P